DEPARTMENT OF HEALTH AND HUMAN SERVICES

National Institutes of Health

Prospective Grant of Co-Exclusive License: Method for Diagnosis of Atherosclerosis

AGENCY: National Institutes of Health, Public Health Service, HHS.

ACTION: Notice.

SUMMARY: This is notice, in accordance with 35 U.S.C. 209(c)(1) and 37 CFR 404.7(a)(1)(i), that the National Institutes of Health (NIH), Department of Health and Human Services, is contemplating the grant of a worldwide co-exclusive license to practice the invention embodied in: PCT Application No. US2005/031469 filed 9/2/2005, titled “Method for Diagnosis of Atherosclerosis” referenced at DHHS as E-276-2004/2-PCT-01 to Ortho-Clinical Diagnostics, Inc., having a place of business in the state of New Jersey. The field of use may be limited to an FDA approved clinical diagnostic product for atherosclerosis. The United States of America is the assignee of the patent rights in this invention. The territory may be worldwide. This announcement is the second Notice to grant a license to this technology. The initial Notice was published in 70 FR 39525, July 8, 2005.

DATES: Only written comments and/or application for a license, which are received by the NIH Office of Technology Transfer on or before October 23, 2006 will be considered.

ADDRESSES: Requests for a copy of the patent applications, inquiries, comments and other materials relating to the contemplated license should be directed to: Fatima Sayyid, Technology Licensing Specialist, Office of Technology Transfer, National Institutes of Health, 6011 Executive Boulevard, Suite 325, Rockville, MD 20852-3804; telephone: (301) 435-4521; facsimile: (301) 402-0220; e-mail: sayyidf@mail.nih.gov.

SUPPLEMENTARY INFORMATION: The subject PCT application is related to the field of vascular disease and biomarkers FOS and DUSP1 as expressed in peripheral blood or secreted into serum.

The prospective co-exclusive license will be royalty-bearing and will comply with the terms and conditions of 35 U.S.C. 209 and 37 CFR 404.7. The prospective co-exclusive license may be granted unless, within 60 days from the date of this published Notice, NIH receives written evidence and argument that establishes that the grant of the license would not be consistent with the requirements of 35 U.S.C. 209 and 37 CFR 404.7.

Properly filed competing applications for a license filed in response to this notice will be treated as objections to the contemplated license. Comments and objections submitted in response to this notice will not be made available for public inspection, and, to the extent permitted by law, will not be released under the Freedom of Information Act, 5 U.S.C. 552.

Dated: August 15, 2006.
Steven M. Ferguson,
Director, Division of Technology Development and Transfer, Office of Technology Transfer, National Institutes of Health.

[FR Doc. E6-13935 Filed 8-22-06; 8:45 am]

BILLING CODE 4140-01-P